DEPARTMENT OF AGRICULTURE

Grain Inspection, Packers and Stockyards Administration

Proposed Posting, Posting, and Deposting of Stockyards

AGENCY: Grain Inspection, Packers and Stockyards Administration, USDA.

ACTION: Notice and request for comments.

SUMMARY: The Grain Inspection, Packers and Stockyards Administration (GIPSA) is taking several actions to post and depost stockyards under the Packers and Stockyards Act (P&S Act). Specifically, we are proposing that eight stockyards now operating subject to the P&S Act be posted. We are also posting 10 stockyards that were identified previously as operating subject to the P&S Act and deposting one stockyard that no longer meets the definition of a stockyard. Additionally, we are notifying the public of six stockyards previously proposed to be posted will not be posted because they no longer meet the definition of a stockyard.

DATES: For the proposed posting of stockyards, we will consider comments that we receive by July 30, 2014.

ADDRESSES: We invite you to submit comments on this notice. You may submit comments by any of the following methods:

• Internet: Go to http://www.regulations.gov. Follow the on-line instructions for submitting comments.

• Fax: (202) 690-2173.

• Mail, hand delivery or courier: R. Dexter Thomas, GIPSA, USDA, 1400 Independence Avenue SW., Room 2530-S, Washington, DC 20250-3604.

Instructions: All comments should refer to the date and page number of this issue of the Federal Register. The comments and other documents relating to this action will be available for public inspection during regular business hours.

FOR FURTHER INFORMATION CONTACT: Catherine M. Grasso, Program Analyst, Policy and Litigation Division at (202) 720-7363 or Catherine.m.grasso@usda.gov.

SUPPLEMENTARY INFORMATION: The Grain Inspection, Packers and Stockyards Administration (GIPSA) administers and enforces the P&S Act of 1921, (7 U.S.C. 181 et seq.). The P&S Act prohibits unfair, deceptive, and fraudulent practices by livestock market agencies, dealers, stockyard owners, meat packers, swine contractors, and live poultry dealers in the livestock, poultry, and meatpacking industries.

Section 302 of the P&S Act (7 U.S.C. 202) defines the term “stockyard” as follows:

“. . . any place, establishment, or facility commonly known as stockyards, conducted, operated, or managed for profit or nonprofit as a public market for livestock producers, feeders, market agencies, and buyers, consisting of pens, or other enclosures, and their appurtenances, in which live cattle, sheep, swine, horses, mules, or goats are received, held, or kept for sale or shipment in commerce.”

Section 302 (b) of the P&S Act requires the Secretary of Agriculture to determine which stockyards meet this definition, and to notify the owner of the stockyard and the public of that determination by posting a notice in each designated stockyard. Once the Secretary provides notice to the stockyard owner and the public, the stockyard is subject to the provisions of Title III of the P&S Act (7 U.S.C. 201-203 and 205-217a) until the Secretary deposts the stockyard by public notice. To post a stockyard, we assign the stockyard a facility number, notify the stockyard owner, and send an official posting notice to the stockyard owner to display in a public area of the stockyard. This process is referred to as “posting.” The date of posting is the date that the posting notices are physically displayed at the stockyard. A facility that does not meet the definition of a stockyard is not subject to the P&S Act, and therefore cannot be posted. A posted stockyard can be deposted, which occurs when the facility is no longer used as a stockyard.

We are hereby notifying stockyard owners and the public that the following eight stockyards meet the (P&S Act) definition of a stockyard, and that we propose to designate these stockyards as posted stockyards.

Proposed facility No. | Stockyard name and location
AL-198 | Central Auction Barn, Electic, Alabama
AR-183 | Mollie Wright—Wright's Small Animal Auction, Benton, Arkansas
AZ-118 | Sonoran Livestock Marketing, LLC, Douglas, Arizona
KY-186 | Ricky M. Kepley, dba Franklin Livestock Market, Franklin, Kentucky
TN-208 | Treadway Livestock Exchange, Thorn Hill, Tennessee
TN-209 | Darrells Auction and Livestock, Powder Springs, Tennessee
TN-210 | Rising Star Ranch, LLC, Shelbyville, Tennessee
TN-211 | Circle R Auction, Ethridge, Tennessee

We are also notifying the public that the stockyards listed in the following table meet the P&S Act's definition of a stockyard and that we have posted the stockyards. On January 15, 2013, we published a notice in the Federal Register (78 FR 2950-2952) of our proposal to post these 10 stockyards. Since we received no comments to our proposal, we assigned the stockyards a facility number and notified the owner of the stockyard facilities. Posting notices were sent to the owner of the stockyard to display in public areas of the stockyard. The table below reflects the date of posting for each stockyard.

Facility No. | Stockyard name and location | Date of posting
GA-233 | Middle Georgia Goat & Chicken Auction, Cochran, Georgia | 04/29/2013
GA-235 | Dooly County Livestock, LLC., Unadilla, Georgia | 05/30/2013
MS-177 | Clark's Livestock, Forest, Mississippi | 04/29/2013
MT-124 | Headwaters Livestock Auction, Three Forks, Montana | 05/01/2013
NY-179 | HillTop Auction Company, Penn Yan, New York | 04/30/2013
OK-217 | Cross Livestock Auction, LLC, Checotah, Oklahoma | 05/30/2013
SC-164 | H & S Stockyards, Ehrhardt, South Carolina | 04/30/2013
TN-205 | Bill Roark dba Roan Valley Auction Company and Livestock Market, Mountain City, Tennessee | 05/02/2013
TN-207 | Southern Saddlebred Sales, Inc., Murfreesboro, Tennessee | 05/02/2013
TX-357 | Lockhart Land Holdings, d/b/a Hereford Livestock Auction, Hereford, Texas | 05/30/2013

We are further notifying the public that the following facilities, which met the definition of a stockyard previously, were not posted. We published notices proposing to post these six stockyards in the Federal Register on January 15, 2013, (78 FR 2950-2952). The facilities were not posted because they no longer meet the definition of a stockyard.

Proposed facility No. | Facility name and location
GA-234 | Bent Staples Auctions, LLC, Ocilla, Georgia
IN-170 | Tri-State Livestock Auction, LLC, Angola, Indiana
NY-178 | Don Yahn Market, Cherry Creek, New York
TN-204 | Heritage Horse Sales, LLC, Shelbyville, Tennessee
TN-206 | The Sale of Champions, Shelbyville, Tennessee
TX-355 | Sulphur Springs Horse Sales, Sulphur Springs, Texas

Finally, we are notifying the public that the following stockyard no longer meets the definition of a stockyard and it is being deposted. We depost stockyards when the facility can no longer be used as a stockyard. The reasons a facility can no longer be used as a stockyard may include the following: (1) The market agency has moved and the posted facility is abandoned; (2) the facility has been torn down or otherwise destroyed, such as by fire; (3) the facility is dilapidated beyond repair; or (4) the facility has been converted and its function has changed.

Facility No. | Stockyard name and location | Date posted
KY-137 | Wayne County Livestock Auction, Monticello, Kentucky | 12-10-1959

Authority: 7 U.S.C. 202.

Larry Mitchell,
Administrator, Grain Inspection, Packers and Stockyards Administration.

[FR Doc. 2014-16448 Filed 7-14-14; 8:45 am]

BILLING CODE 3410-KD-P